ENVIRONMENTAL PROTECTION AGENCY

[EPA-HQ-OPPT-2013-0811; FRL 9926-56-OEI]

Information Collection Request Submitted to OMB for Review and Approval; Comment Request; Residential Lead-Based Paint Hazard Disclosure Requirements (Renewal)

AGENCY: Environmental Protection Agency (EPA).

ACTION: Notice.

SUMMARY: EPA has submitted the following information collection request (ICR) to the Office of Management and Budget (OMB) for review and approval in accordance with the Paperwork Reduction Act (PRA): “Residential Lead-Based Paint Hazard Disclosure Requirements (Renewal),” identified by EPA ICR No. 1710.07 and OMB Control No. 2070-0151. The ICR, which is available in the docket along with other related materials, provides a detailed explanation of the collection activities and the burden estimate that is briefly summarized in this document. EPA did not receive any comments in response to the previously provided public review opportunity issued in the Federal Register on July 24, 2014 (79 FR 71603). With this submission, EPA is providing an additional 30 days for public review.

DATES: Comments must be received on or before May 28, 2015.

ADDRESSES: Submit your comments, identified by docket identification (ID) number EPA-HQ-OPPT-2013-0811, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Colby Lintner, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is currently scheduled to expire on April 30, 2015. Under OMB regulations, the Agency may continue to conduct or sponsor the collection of information while this submission is pending at OMB.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: Section 1018 of the Residential Lead Based Paint Hazard Reduction Act (42 U.S.C. 4852d) requires that sellers and lessors of most residential housing built before 1978 disclose known information on the presence of lead based paint and lead based paint hazards, and provide an EPA approved pamphlet to purchasers and renters before selling or leasing the housing. Sellers of pre-1978 housing are also required to provide prospective purchasers with ten days to conduct an inspection or risk assessment for lead based paint hazards before obligating purchasers under contracts to purchase the property. The rule does not apply to rental housing that has been found to be free of lead-based paint, zero-bedroom dwellings, housing for the elderly, housing for the handicapped, or short term leases.

Responses to the collection of information are mandatory (see 40 CFR part 745, subpart F, and 24 CFR part 35, subpart H). Respondents may claim all or part of a response confidential. EPA will disclose information that is covered by a claim of confidentiality only to the extent permitted by, and in accordance with, the procedures in TSCA section 14 and 40 CFR part 2.

Form Numbers: None.

Respondents/affected entities: Persons engaged in selling or leasing certain residential dwellings built before 1978, or who are real estate agents representing such parties.

Respondent's obligation to respond: Mandatory.

Estimated number of respondents: 39,645,600.

Frequency of response: On occasion.

Total estimated burden: 6,467,176 hours per year. Burden is defined at 5 CFR 1320.03(b).

Total estimated cost: $125,683,576 per year, includes $0 annualized capital or operation and maintenance costs.

Changes in the estimates: There is a decrease of 470,154 hours in the total estimated respondent burden compared with that identified in the ICR currently approved by OMB. This decrease reflects a gradual reduction in the annual number of real estate sales involving target housing subject to the rule's requirements and an overall decrease in real estate sales. There has also been a notable decrease in the overall growth of the real estate agent profession which reduces the number of new entrants who have start-up burden and cost related to this ICR activity. While the number of property rentals increased over the past year, fewer parties are involved in those transactions so the increases in the rental market were not enough to offset the decrease in the sales market in terms of burden and cost related to this ICR.

Authority: 44 U.S.C. 3501 et seq.

Courtney Kerwin,
Acting Director, Collection Strategies Division.

[FR Doc. 2015-09847 Filed 4-27-15; 8:45 am]

BILLING CODE 6560-50-P